FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than October 19, 2001.

A. Federal Reserve Bank of Chicago (Phillip Jackson, Applications Officer) 230 South LaSalle Street, Chicago, Illinois 60690-1414:

1. Merrill M. Wesemann, Franklin, Indiana; to acquire additional voting shares of First Community Bancshares, Inc., Bargersville, Indiana, and thereby indirectly acquire additional voting shares of First Community Bank & Trust, Bargersville, Indiana.

B. Federal Reserve Bank of Kansas City (Susan Zubradt, Assistant Vice President) 925 Grand Avenue, Kansas City, Missouri 64198-0001:

1. Boyd Clark Bass, Bellevue, Colorado; Louise Loraine Bass, Albuquerque, New Mexico; and Carlton Clark Bass, McAlester, Oklahoma, as Co-Trustees of the Bass Family Trust; to acquire voting shares of First of McAlester Corporation, McAlester, Oklahoma, and thereby indirectly acquire voting shares of First National Bank and Trust Company, McAlester, Oklahoma.

Board of Governors of the Federal Reserve System, September 28, 2001.
Robert deV. Frierson,
Deputy Secretary of the Board.

[FR Doc. 01-24797 Filed 10-3-00; 8:45 am]

BILLING CODE 6210-01-S